DEPARTMENT OF ENERGY

Federal Energy Regulatory Commission

Combined Notice of Filings #1

Take notice that the Commission received the following electric corporate filings:

Docket Numbers: EC19-38-000.

Applicants: Northern States Power Company, a Minnesota corporation, Mankato Energy Center, LLC, Mankato Energy Center II, LLC.

Description: Supplement to December 18, 2018 Joint Application Authorization (Exhibit N) of Northern States Power Company, a Minnesota corporation, et al.

Filed Date: 3/29/19.

Accession Number: 20190329-5322.

Comments Due: 5 p.m. ET 4/12/19.

Docket Numbers: EC19-46-000.

Applicants: Orange and Rockland Utilities, Inc.

Description: Clarification and Revised Exhibits A and B to January 15, 2019 Application for order pursuant to Section 203 of the Federal Power Act of Orange and Rockland Utilities, Inc.

Filed Date: 3/28/19.

Accession Number: 20190328-5326.

Comments Due: 5 p.m. ET 4/11/19.

Docket Numbers: EC19-72-000.

Applicants: Northern States Power Company, a Minnesota corporation, Lake Benton Power Partners II, LLC.

Description: Joint Application for Authorization Under Section 203 of the Federal Power Act, et al. of Northern States Power Company, a Minnesota corporation, et al.

Filed Date: 3/28/19.

Accession Number: 20190328-5318.

Comments Due: 5 p.m. ET 4/18/19.

Docket Numbers: EC19-73-000.

Applicants: NGV Emerald Acquisition Co., LLC, Great Plains Windpark Legacy, LLC.

Description: Application for Authorization Under Section 203 of the Federal Power Act, et al. of NGV Emerald Acquisition Co., LLC, et al.

Filed Date: 3/28/19.

Accession Number: 20190328-5323.

Comments Due: 5 p.m. ET 4/18/19.

Take notice that the Commission received the following electric rate filings:

Docket Numbers: ER10-2422-006.

Applicants: Rocky Mountain Power, LLC.

Description: Notice of Non-Material Change in Status of Rocky Mountain Power, LLC.

Filed Date: 3/28/19.

Accession Number: 20190328-5286.

Comments Due: 5 p.m. ET 4/18/19.

Docket Numbers: ER16-2716-005.

Applicants: NextEra Energy Transmission MidAtlantic, LLC.

Description: Compliance filing: NextEra Energy Transmission MidAtlantic Revised Compliance Filing to be effective 11/30/2016.

Filed Date: 3/29/19.

Accession Number: 20190329-5362.

Comments Due: 5 p.m. ET 4/19/19.

Docket Numbers: ER16-2719-007.

Applicants: NextEra Energy Transmission New York, Inc.

Description: Compliance filing: NextEra Energy Transmission New York Revised Compliance Filing to be effective 11/30/2016.

Filed Date: 3/29/19.

Accession Number: 20190329-5363.

Comments Due: 5 p.m. ET 4/19/19.

Docket Numbers: ER19-1103-001.

Applicants: Midcontinent Independent System Operator, Inc.

Description: Tariff Amendment: 2019-03-28_Amendment to Attachment X revisions for Hybrid Interconnection to be effective 3/28/2019.

Filed Date: 3/28/19.

Accession Number: 20190328-5259.

Comments Due: 5 p.m. ET 4/8/19.

Docket Numbers: ER19-1464-000.

Applicants: Sierra Pacific Power Company.

Description: § 205(d) Rate Filing: Service Agreement No. 18-00088 EPC SPPC/Fallon to be effective 3/29/2019.

Filed Date: 3/28/19.

Accession Number: 20190328-5253.

Comments Due: 5 p.m. ET 4/18/19.

Docket Numbers: ER19-1465-000.

Applicants: Sierra Pacific Power Company.

Description: § 205(d) Rate Filing: Service Agreement No. 18-00089 Amded NITSA SPPC/Fallon to be effective 5/28/2019.

Filed Date: 3/28/19.

Accession Number: 20190328-5254.

Comments Due: 5 p.m. ET 4/18/19.

Docket Numbers: ER19-1466-000.

Applicants: Pacific Gas and Electric Company.

Description: § 205(d) Rate Filing: PG&E Steelhead BESS SGIA (SA 416) to be effective 5/27/2019.

Filed Date: 3/28/19.

Accession Number: 20190328-5271.

Comments Due: 5 p.m. ET 4/18/19.

Docket Numbers: ER19-1467-000.

Applicants: Arizona Public Service Company.

Description: Tariff Cancellation: Cancellation of Service Agreement Nos. 308, 352, 357, and 358 to be effective 5/28/2019.

Filed Date: 3/28/19.

Accession Number: 20190328-5277.

Comments Due: 5 p.m. ET 4/18/19.

Docket Numbers: ER19-1468-000.

Applicants: Niagara Mohawk Power Corporation, New York Independent System Operator, Inc.

Description: § 205(d) Rate Filing: 205 Cost Reimbursement Agreement (SA 2448) NMPC and NYPA to be effective 3/1/2019.

Filed Date: 3/29/19.

Accession Number: 20190329-5003.

Comments Due: 5 p.m. ET 4/19/19.

Docket Numbers: ER19-1469-000.

Applicants: New England Power Pool Participants Committee.

Description: § 205(d) Rate Filing: April 2019 Membership Filing to be effective 4/1/2019.

Filed Date: 3/29/19.

Accession Number: 20190329-5071.

Comments Due: 5 p.m. ET 4/19/19.

Docket Numbers: ER19-1470-000.

Applicants: ISO New England Inc., Emera Maine.

Description: § 205(d) Rate Filing: Emera Maine; Changes to ISO-NE OATT Schedule 21-EM to be effective 6/1/2019.

Filed Date: 3/29/19.

Accession Number: 20190329-5082.

Comments Due: 5 p.m. ET 4/19/19.

Docket Numbers: ER19-1471-000.

Applicants: Wisconsin Electric Power Company.

Description: § 205(d) Rate Filing: Update to Reactive Supply Service Revenue Requirement to be effective 4/1/2019.

Filed Date: 3/29/19.

Accession Number: 20190329-5087.

Comments Due: 5 p.m. ET 4/19/19.

Docket Numbers: ER19-1472-000.

Applicants: Wisconsin Electric Power Company.

Description: Notice of Cancellation of Rate Schedule No. 103 of Wisconsin Electric Power Company.

Filed Date: 3/28/19.

Accession Number: 20190328-5314.

Comments Due: 5 p.m. ET 4/18/19.

Docket Numbers: ER19-1473-000.

Applicants: AES Alamitos Energy, LLC.

Description: Baseline eTariff Filing: AES Alamitos Energy MBR Application to be effective 5/29/2019.

Filed Date: 3/29/19.

Accession Number: 20190329-5126.

Comments Due: 5 p.m. ET 4/19/19.

Docket Numbers: ER19-1474-000.

Applicants: AES Huntington Beach Energy, LLC.

Description: Baseline eTariff Filing: AES Huntington Beach Energy Application to be effective 5/29/2019.

Filed Date: 3/29/19.

Accession Number: 20190329-5143.

Comments Due: 5 p.m. ET 4/19/19.

Docket Numbers: ER19-1475-000.

Applicants: Potomac Electric Power Company, PJM Interconnection, L.L.C.

Description: § 205(d) Rate Filing: PEPCO submits revisions to OATT, Att. H-9A and H-9B re: True-up to be effective 6/1/2019.

Filed Date: 3/29/19.

Accession Number: 20190329-5170.

Comments Due: 5 p.m. ET 4/19/19.

Docket Numbers: ER19-1476-000.

Applicants: Duke Energy Progress, LLC.

Description: § 205(d) Rate Filing: DEP-Fayetteville PWC (RS No. 184) Amended PSCA to be effective 6/1/2019.

Filed Date: 3/29/19.

Accession Number: 20190329-5190.

Comments Due: 5 p.m. ET 4/19/19.

Docket Numbers: ER19-1477-000.

Applicants: Entergy Louisiana, LLC.

Description: § 205(d) Rate Filing: ELL-SRMPA 15th Extension of Interim Agreement to be effective 4/1/2019.

Filed Date: 3/29/19.

Accession Number: 20190329-5198.

Comments Due: 5 p.m. ET 4/19/19.

Docket Numbers: ER19-1478-000.

Applicants: Commonwealth Edison Company, PJM Interconnection, L.L.C.

Description: § 205(d) Rate Filing: ComEd submits revisions to OATT, Att. H-13A re: Superconductor Cable Project to be effective 5/28/2019.

Filed Date: 3/29/19.

Accession Number: 20190329-5200.

Comments Due: 5 p.m. ET 4/19/19.

Docket Numbers: ER19-1479-000.

Applicants: Trans-Allegheny Interstate Line Company, PJM Interconnection, L.L.C.

Description: § 205(d) Rate Filing: TrAILCo submits Transmission Facility Interconnection Agreement, SA No. 4239 to be effective 5/30/2019.

Filed Date: 3/29/19.

Accession Number: 20190329-5204.

Comments Due: 5 p.m. ET 4/19/19.

Docket Numbers: ER19-1480-000.

Applicants: Southern California Edison Company.

Description: § 205(d) Rate Filing: 2019 TACBAA Update to be effective 6/1/2019.

Filed Date: 3/29/19.

Accession Number: 20190329-5211.

Comments Due: 5 p.m. ET 4/19/19.

Docket Numbers: ER19-1481-000.

Applicants: Trans-Allegheny Interstate Line Company, PJM Interconnection, L.L.C.

Description: § 205(d) Rate Filing: TrAILCo submits Transmission Facility Interconnection Agreement, SA No. 4368 to be effective 5/30/2019.

Filed Date: 3/29/19.

Accession Number: 20190329-5212.

Comments Due: 5 p.m. ET 4/19/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 29, 2019.
Nathaniel J. Davis, Sr.,
Deputy Secretary.

[FR Doc. 2019-06590 Filed 4-3-19; 8:45 am]

BILLING CODE 6717-01-P